DEPARTMENT OF THE INTERIOR

Fish and Wildlife Service

Availability of Draft Comprehensive Conservation Plan and Environmental Assessment for Tewaukon National Wildlife Refuge Complex, Cayuga, ND.

AGENCY: Fish and Wildlife Service, Interior.

ACTION: Notice of availability.

SUMMARY: Pursuant to the Refuge Improvement Act of 1997, the U.S. Fish and Wildlife Service has published the Tewaukon National Wildlife Refuge Complex Draft Comprehensive Conservation Plan and Environmental Assessment. This Plan describes how the FWS intends to manage the Tewaukon NWR and Wetland Management District for the next 10-15 years.

DATES: Submit written comments by July 6, 2000. All comments need to be addressed to Allison Banks, Refuge Planner, Land Acquisition and Refuge Planning, U.S. Fish and Wildlife Service, P.O. Box 25486 DFC, Denver, Colorado 80225.

ADDRESSES: A copy of the Plan may be obtained by writing to U.S. Fish and Wildlife Service, 9754 143½ Avenue SE, Cayuga, ND 58013-9764; or download from http://www.r6.fws.gov/larp/.

FOR FURTHER INFORMATION CONTACT: Allison Banks, U.S. fish and Wildlife Service, P.O. Box 25486 DFC, Denver, CO 80225, 303/236-8145 extension 626; fax 303/236-4792.

SUPPLEMENTARY INFORMATION: Tewaukon NWR Complex is located in southeast North Dakota. Implementation of the Plan will focus on adaptive resource management of glaciated prairie wetlands, tall and mixed grass prairie grasslands, riparian woodlands, and opportunities for compatible wildlife-dependent recreation. Habitat monitoring and evaluation will be emphasized as the Plan is implemented. Opportunities for compatible wildlife-dependent recreation will continue to be provided.

Dated: May 31, 2000.
Ralph O. Morgenweck,
Regional Director, Denver, Colorado.

[FR Doc. 00-14100 Filed 6-5-00; 8:45 am]

BILLING CODE 4310-55-M